DEPARTMENT OF ENERGY

Federal Energy Regulatory Commission

[Project No. 619-164]

Pacific Gas and Electric Company and City of Santa Clara, California; Notice of Availability of the Final Environmental Impact Statement for the Bucks Creek Hydropwer Project

In accordance with the National Environmental Policy Act of 1969 and the Federal Energy Regulatory Commission's (Commission) regulations, 18 CFR part 380, the Office of Energy Projects has reviewed the application for license for the Bucks Creek Hydropower Project (FERC No. 619) and has prepared a final environmental impact statement (EIS) for the project. The project is located on Bucks, Grizzly, and Milk Ranch Creeks in Plumas County, California. Portions of the project are located within the Plumas National Forest.

The final EIS contains staff's evaluations of the co-applicants' proposal and the alternatives for relicensing the Bucks Creek Hydropower Project. The final EIS documents the views of governmental agencies, non-governmental organizations, affected Indian tribes, the public, the license applicants, and Commission staff.

A copy of the final EIS is available for review in the Commission's Public Reference Branch, Room 2A, located at 888 First Street NE, Washington, DC 20426. The final EIS also may be viewed on the Commission's website at http://www.ferc.gov under the eLibrary link. Enter the docket number excluding the last three digits in the docket number field to access the document. For assistance, contact FERC Online Support at FERCOnlineSupport@ferc.gov, (866) 208-3676 (toll free), or (202) 502-8659 (TTY).

You may also register online at http://www.ferc.gov/docs-filing/esubscription.asp to be notified via email of new filings and issuances related to this or other pending projects. For assistance, contact FERC Online Support.

For further information, please contact Alan Mitchnick at (202) 502-6074 or at alan.mitchnick@ferc.gov.

Dated: January 28, 2020.
Kimberly D. Bose,
Secretary.

[FR Doc. 2020-02351 Filed 2-5-20; 8:45 am]

BILLING CODE 6717-01-P